FEDERAL DEPOSIT INSURANCE CORPORATION

Notice of a Matter To Be Added to the Agenda for Consideration at an Agency Meeting

Pursuant to the provisions of the “Government in the Sunshine Act” (5 U.S.C. 552b), notice is hereby given that the following matter will be added to the “summary agenda” for consideration at the open meeting of the Board of Directors of the Federal Deposit Insurance Corporation scheduled to be held at 10 a.m. on Tuesday, October 7, 2008, in the Board Room on the sixth floor of the FDIC Building located at 550-17th Street, NW., Washington, DC:

Memorandum and resolution re: Interagency Notice of Proposed Rulemaking on Capital Treatment of Certain Claims on or Guaranteed by, the Federal National Mortgage Association (Fannie Mae) and the Federal Home Loan Mortgage Corporation (Freddie Mac).

This Board meeting will be Webcast live via the Internet and subsequently made available on-demand approximately one week after the event. Visit http://www.vodium.com/goto/fdic/boardmeetings.asp to view the event. If you need any technical assistance, please visit our Video Help page at: http://www.fdic.gov/video.html.

The FDIC will provide attendees with auxiliary aids (e.g., sign language interpretation) required for this meeting. Those attendees needing such assistance should call (703) 562-6067 (Voice or TTY), to make necessary arrangements.

Requests for further information concerning the meeting may be directed to Ms. Valerie J. Best, Assistant Executive Secretary of the Corporation, at (202) 898-7043.

Dated: October 2, 2008.
Federal Deposit Insurance Corporation.
Valerie J. Best,
Assistant Executive Secretary.

[FR Doc. E8-23801 Filed 10-7-08; 8:45 am]

BILLING CODE 6714-01-P